DEPARTMENT OF THE INTERIOR

National Park Service

[NPS-WASO-NAGPRA-NPS0039948; PPWOCRADN0-PCU00RP14.R50000]

Notice of Intended Repatriation: Turtle Bay Exploration Park, Redding, CA

AGENCY: National Park Service, Interior.

ACTION: Notice.

SUMMARY: In accordance with the Native American Graves Protection and Repatriation Act (NAGPRA), the Turtle Bay Exploration Park (TBEP) intends to repatriate certain cultural items that meet the definition of objects of cultural patrimony and that have a cultural affiliation with the Indian Tribes or Native Hawaiian organizations in this notice.

DATES: Repatriation of the cultural items in this notice may occur on or after May 19, 2025.

ADDRESSES: Julia Cronin, Turtle Bay Exploration Park, 844 Sundial Bridge Drive, Redding, CA 96001, telephone (530) 242-3191, email jcronin@turtlebay.org.

SUPPLEMENTARY INFORMATION: This notice is published as part of the National Park Service's administrative responsibilities under NAGPRA. The determinations in this notice are the sole responsibility of Turtle Bay Exploration Park, and additional information on the determinations in this notice, including the results of consultation, can be found in the summary or related records. The National Park Service is not responsible for the determinations in this notice.

Abstract of Information Available

A total of 113 cultural items have been requested for repatriation. The 113 objects of cultural patrimony include 12 stone tools and stone tool fragments, three bone needles, nine turtle shell fragments, 88 pieces of animal bone fragments, and one lot of fish bones.

Museum documentation states these items were found or excavated by Jim Dotta near Big Lake or McArthur in Shasta County in northern California. Though these items share a site number with which they are all associated, there is no archaeological report on file at the Museum. Mr. Dotta estimated the manos and metate to be 2,000 years old. There is no date information for the remaining items. There is no indication any of the items are from a burial context. Mr. Dotta was usually meticulous about noting the presence or absence of a burial in relation to artifacts. However, this collection came to the Redding Museum after his death and records may be incomplete. The areas of Big Lake and McArthur have been Ajumawi territory since time immemorial. The Ajumawi Band is one of eleven autonomous bands of the Pit River Tribe (includes XL Ranch, Big Bend, Likely, Lookout, Montgomery Creek, and Roaring Creek Rancherias).

James “Jim” Dotta was a local instructor at Shasta Community College in Redding, CA, a professional archaeologist, and heavily involved in the Redding Museum and Art Center (TBEP's predecessor institution). He was also an avid collector of books, historical objects, artworks, and Indigenous Belongings. Mr. Dotta donated the metate and two manos to the Museum in 1979. The remaining items were donated in 1982 by his family after Mr. Dotta passed away. Turtle Bay Exploration Park does not treat Indigenous Belongings with hazardous materials. However, it is not documented whether these items received treatment prior to entering the care of the Redding Museum and Art Center.

Determinations

Turtle Bay Exploration Park has determined that:

• The 113 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Pit River Tribe, California (includes XL Ranch, Big Bend, Likely, Lookout, Montgomery Creek, and Roaring Creek Rancherias).

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 19, 2025. If competing requests for repatriation are received, Turtle Bay Exploration Park must determine the most appropriate requestor prior to repatriation. Requests for joint repatriation of the cultural items are considered a single request and not competing requests. The Turtle Bay Exploration Park is responsible for sending a copy of this notice to the Indian Tribes and Native Hawaiian organizations identified in this notice and to any other consulting parties.

Authority: Native American Graves Protection and Repatriation Act, 25 U.S.C. 3004 and the implementing regulations, 43 CFR 10.9.

Dated: April 8, 2025.
Melanie O'Brien,
Manager, National NAGPRA Program.

[FR Doc. 2025-06638 Filed 4-17-25; 8:45 am]

BILLING CODE 4312-52-P